DEPARTMENT OF THE INTERIOR

Office of Surface Mining Reclamation and Enforcement

Notice of Proposed Information Collection

AGENCY: Office of Surface Mining Reclamation and Enforcement, Interior.

ACTION: Notice and request for comments (1029-0055).

SUMMARY: In compliance with the Paperwork Reduction Act of 1995, the Office of Surface Mining Reclamation and Enforcement (OSM or we) is announcing our intention to request renewed approval for the collection of information for States or Indian Tribes, pursuant to an approved reclamation program, to use police powers, if necessary, to effect entry upon private lands to conduct reclamation activities or exploratory studies if the landowner's consent is refused or the landowner is not available. The collection described below has been forwarded to the Office of Management and Budget (OMB) for review and comment. The information collection request describes the nature of the information collection and the expected burdens and costs.

DATES: OMB has up to 60 days to approve or disapprove the information collection but may respond after 30 days. Therefore, your comments should be submitted to OMB by May 31, 2011, in order to be assured of consideration.

ADDRESSES: Your comments should be submitted to the Office of Information and Regulatory Affairs, Office of Management and Budget, Department of the Interior Desk Officer, via e-mail at OIRA_Docket@omb.eop.gov, or by facsimile to (202) 395-5806. Also, please send a copy of your comments to John Trelease, Office of Surface Mining Reclamation and Enforcement, 1951 Constitution Ave., NW., Room 202-SIB, Washington, DC 20240, or electronically to jtrelease@osmre.gov. Please reference 1029-0055 in your submission.

FOR FURTHER INFORMATION CONTACT: To receive a copy of the information collection request contact John Trelease at (202) 208-2783, or electronically at jtrelease@osmre.gov. You may also review this collection by going to http://www.reginfo.gov (Information Collection Review, Currently Under Review, Agency is Department of the Interior, DOI-OSMRE).

SUPPLEMENTARY INFORMATION: The Office of Management and Budget (OMB) regulations at 5 CFR 1320, which implement provisions of the Paperwork Reduction Act of 1995 (Pub. L. 104-13), require that interested members of the public and affected agencies have an opportunity to comment on information collection and recordkeeping activities [see 5 CFR 1320.8(d)]. We have submitted a request to OMB to approve the collection of information for 30 CFR 877—Rights of Entry. We are requesting a 3-year term of approval for this information collection activity.

An agency may not conduct or sponsor, and a person is not required to respond to, an information collection unless it displays a currently valid OMB control number. The OMB control number for this collection of information is displayed in 30 CFR 877.10 (1029-0055).

As required under 5 CFR 1320.8(d), we published a Federal Register notice seeking public comments on this collection of information on February 7, 2011 (76 FR 6631). No comments were received. This notice gives you an additional 30 days in which to comment on the following information collection activity:

Title: 30 CFR 877—Rights of Entry.

OMB Control Number: 1029-0055.

Summary: This regulation establishes procedures for non-consensual entry upon private lands for the purpose of abandoned mine land reclamation activities or exploratory studies when the landowner refuses consent or is not available.

Bureau Form Number: None.

Frequency of Collection: Once.

Description of Respondents: State abandoned mine land reclamation agencies.

Total Annual Responses: 12.

Estimated Time per Response: 2 hours for uncomplicated situations and 9 hours for complicated situations.

Total Annual Burden Hours: 38 hours.

Total Annual Non-wage Costs: $1,080 for publication costs.

Send comments on the need for the collection of information for the performance of the functions of the agency; the accuracy of the agency's burden estimates; ways to enhance the quality, utility and clarity of the information collection; and ways to minimize the information collection burden on respondents, such as use of automated means of collection of the information, to the addresses listed under ADDRESSES. Please refer to the appropriate OMB control number in all correspondence.

Before including your address, phone number, e-mail address, or other personal identifying information in your comment, you should be aware that your entire comment—including your personal identifying information—may be made publicly available at any time. While you can ask us in your comment to withhold your personal identifying information from public review, we cannot guarantee that we will be able to do so.

Dated: April 21, 2011.
Stephen M. Sheffield,
Acting Chief, Division of Regulatory Support.

[FR Doc. 2011-10205 Filed 4-27-11; 8:45 am]

BILLING CODE 4310-05-M